DEPARTMENT OF STATE

[Public Notice: 10611]

Notice of Meeting: U.S. Advisory Commission on Public Diplomacy

The U.S. Advisory Commission on Public Diplomacy will hold a public meeting from 10:00 a.m. until 12:00 p.m., Tuesday, December 4, 2018, at the U.S. Capital Visitor Center in Room SVC 201-00 (First St. NE, Washington, DC 20515). The public meeting will focus on the release of the Commission's 2018 Comprehensive Annual Report.

This meeting is open to the public, including the media and members and staff of governmental and non-governmental organizations. Any requests for reasonable accommodation should be sent by email to Michelle Bowen at BowenMC1@state.gov by 5:00 p.m. on Tuesday, November 27, 2018. Attendees should plan to arrive for the meeting by 9:45 a.m. to allow for a prompt start.

The U.S. Advisory Commission on Public Diplomacy appraises U.S. government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

For more information on the U.S. Advisory Commission on Public Diplomacy, please visit www.state.gov/pdcommission. For more information on the upcoming public meeting, contact the Commission's Designated Federal Official, Jeff Daigle, at DaigleJJ@state.gov.

John J. Daigle,
Designated Federal Official, Advisory Commission on Public Diplomacy, Department of State.

[FR Doc. 2018-24958 Filed 11-14-18; 8:45 am]

BILLING CODE 4710-11-P